FEDERAL COMMUNICATIONS COMMISSION

47 CFR Part 101

[WT Docket No. 10-153; FCC 12-87]

Facilitating the use of Microwave for Wireless Backhaul and Other Uses and Providing Additional Flexibility to Broadcast Auxiliary Service and Operational Fixed Microwave Licensees

AGENCY: Federal Communications Commission.

ACTION: Final rule; announcement of effective date.

SUMMARY: In this document, the Commission announces that the Office of Management and Budget (OMB) has approved, for a period of three years, the information collection associated with the Commission's Wireless Backhaul Second Report and Order (R&O), Facilitating the Use of Microwave for Wireless Backhaul and Other Uses and Providing Additional Flexibility to Broadcast Auxiliary Service and Operational Fixed Microwave Licensees.

This notice is consistent with the R&O, which stated that the Commission would publish a document in the Federal Register announcing the effective date of the Rural Microwave Flexibility Policy.

DATES: The Rural Microwave Flexibility Policy was adopted on August 3, 2012, in FCC 12-87, published in the Federal Register at 77 FR 54421, September 5, 2012, and effective on January 7, 2013.

FOR FURTHER INFORMATION CONTACT: John J. Schauble, Deputy Chief, Broadband Division, Wireless Telecommunications Bureau at (202) 418-0797 or via the Internet at John.Schauble@fcc.gov.

SUPPLEMENTARY INFORMATION: This document announces that, on January 7, 2013, OMB approved, for a period of three years, the information collection requirements contained in the Commission's R&O, FCC 12-87, published at 77 FR 54421 (September 5, 2012). The OMB Control Number is 3060-0718. The Commission publishes this notice as an announcement of the effective date of the Rural Microwave Flexibility Policy. If you have any comments on the burden estimates listed below, or how the Commission can improve the collections and reduce any burdens caused thereby, please contact Judith B. Herman at (202) 418-0214 or via the Internet at Judith-B.Herman@fcc.gov.

Please include the OMB Control Number, 3060-0718, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on January 7, 2013, which contained new or modified information collection requirements for Fixed Service (FS) operators to comply with the Rural Microwave Flexibility Policy adopted in the Wireless Backhaul Second Report and Order, directing the Commission's Wireless Telecommunications Bureau to favorably consider waivers of the payload capacity requirements if FS applicants demonstrate compliance with certain criteria, and that the Rural Microwave Flexibility Policy would not be effective until approved by the Office of Management and Budget. The information collection was adopted in the Report and Order in WT Docket No. 10-153 which appears at 77 FR 54421 (September 5, 2012). The effective date of the rules adopted in that Report and Order was published as October 5, 2012, except for the Rural Microwave Flexibility Policy. Through this document, the Commission announces that it has received this approval (OMB Control No. 3060-0718, Expiration Date: January 31, 2016) and that the Rural Microwave Flexibility Policy became effective on January 7, 2013.

Under 5 CFR part 1320, an agency may not conduct or sponsor a collection of information unless it displays a current, valid OMB Control Number. No person shall be subject to any penalty for failing to comply with a collection of information subject to the Paperwork Reduction Act that does not display a current, valid OMB Control Number. The OMB Control Number is 3060-0718. The foregoing notice is required by the Paperwork Reduction Act of 1995, Public Law 104-13, October 1, 1995, and 44 U.S.C. 3507.

The total annual reporting burdens and costs for the respondents are as follows:

OMB Control Number: 3060-0718.

OMB Approval Date: January 7, 2013.

OMB Expiration Date: January 31, 2016.

Title: Part 101 Rule Sections Governing the Terrestrial Microwave Fixed Radio Service

Form Number: N/A.

Respondents: Business or other for-profit entities, not-for-profit institutions, federal government and state, local, or tribal government.

Number of Respondents: 27,342 respondents; 27,342 responses.

Estimated Time per Response: 1.2962475 hours.

Frequency of Response: On occasion and 10 year reporting requirements, third party disclosure requirements and recordkeeping requirements.

Obligation to Respond: Required to obtain or retain benefits or retain benefits. Statutory authority for this information collection is contained in 47 U.S.C. 151, 154(i), 301, 303(f), 303(g), 303(r), 307, 308, 309, 310 and 316 of the Communications Act of 1934, as amended.

Total Annual Burden: 35,442 hours.

Total Annual Cost: $810,000.

Nature and Extent of Confidentiality: No questions of a confidential nature are asked.

Needs and Uses: On August 3, 2012, the Commission adopted the Rural Microwave Flexibility Policy, which directed the Wireless Telecommunications Bureau to favorably consider waivers of the requirements for payload capacity of equipment, if the applicants demonstrate equipment compliance with the following criteria:

○ The interference environment would allow the applicant to use a less stringent Category B antenna (although the applicant could choose to use a higher performance Category A antenna);

○ The applicant specifically acknowledges its duty to upgrade to a Category A antenna and come into compliance with the applicable efficiency standard if necessary to resolve an interference conflict with a current or future microwave link pursuant to § 101.115(c);

○ The applicant uses equipment that is capable of readily being upgraded to comply with the applicable payload capacity requirement, and provide a certification in its application that its equipment complies with this requirement;

○ Each end of the link is located in a rural area (county or equivalent having population density of 100 persons per square mile or less);

○ Each end of the link is in a county with a low density of links in the 4, 6, 11, 18, and 23 GHz bands;

○ Neither end of the link is contained within a recognized antenna farm; and

○ The applicant describes its proposed service and explains how relief from the efficiency standards will facilitate providing that service (e.g., by eliminating the need for an intermediate hop) as well as the steps needed to come into compliance should an interference conflict emerge.

These requirements are necessary for the Commission staff to carry out its duties to determine whether applicants would be eligible for a waiver of the payload capacity requirements. In addition, the information is used to determine whether the public interest, convenience, and necessity are being served as required by 47 U.S.C. 309. Without this information, the Commission would not be able to carry out its statutory responsibilities.

Federal Communications Commission.
Marlene H. Dortch,
Secretary.

[FR Doc. 2013-02221 Filed 1-31-13; 8:45 am]

BILLING CODE 6712-01-P